COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and a service to be furnished by nonprofit agencies employing persons who are blind or have other severe disabilities.

DATES: Effective Date: July 30, 2006.

ADDRESSES: Committee for Purchase From People Who are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: On May 5, 2006, the Committee for Purchase From People Who are Blind or Severely Disabled published notice (71 FR 26451) of proposed additions to the Procurement List.

After consideration of the material presented to it concerning capability of qualified nonprofit agencies to provide the products and a service and impact of the additions on the current or most recent contractors, the Committee has determined that the products and a service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and a service to the Government.

2. The action will result in authorizing small entities to furnish the products and a service to the Government.

3. There are no known regulatory alternatives which would accomplish the objectives of the Javits-Wagner-O'Day Act (41 U.S.C. 46-48c) in connection with the products and a service proposed for addition to the Procurement List.

End of Certification

Accordingly, the following products and a service are added to the Procurement List:

Products

Product/NSN: Enhanced Suspender Assembly.

8465-01-522-6487—Shoulder Straps, Frame, Desert Pattern.

8465-01-522-6490—Shoulder Strap, Frame, Woodland Pattern.

8465-01-524-7240—Shoulder Straps, Frame, Universal Camouflage Pattern.

NPA: Raleigh Lions Clinic for the Blind, Inc., Raleigh, NC.

8465-01-524-7240—Shoulder Straps, Frame, Universal Camouflage Pattern.

8465-01-522-6490—Shoulder Strap, Frame, Woodland Pattern.

8465-01-522-6487—Shoulder Straps, Frame, Desert Pattern.

NPA: Winston-Salem Industries for the Blind, Winston-Salem, NC.

Contracting Activity: Defense Supply Center Philadelphia, Philadelphia, PA.

Product/NSN: Hydration System.

8465-01-519-2383—Bite Valve.

8465-01-519-2385—Drink Tube.

8465-01-519-2304—Replacement bladder w/100 ML reservoir with drink tube and bite valve.

NPA: The Lighthouse for the Blind, Inc. (Seattle Lighthouse), Seattle, WA.

Contracting Activity: Defense Supply Center Philadelphia, Philadelphia, PA.

Service

Service Type/Location: Custodial & Grounds Maintenance, Immigration and Customs Enforcement, Calle Gonzalez Clemente #30, Mayaguez, Puerto Rico.

Immigration and Customs Enforcement, Louis Munoz Marin International Airport, 3rd Floor, Carolena, Puerto Rico.

Immigration and Customs Enforcement, Penthouse Floor and Parking Floor, 800 Ponce de Leon Avenue, San Juan, Puerto Rico.

NPA: The Corporate Source, Inc., New York, NY.

Contracting Activity: Department of Homeland Security, San Juan, Puerto Rico.

This action does not affect current contracts awarded prior to the effective date of this addition or options that may be exercised under those contracts.

Sheryl D. Kennerly,
Director, Information Management.

[FR Doc. E6-10288 Filed 6-29-06; 8:45 am]

BILLING CODE 6353-01-P